BROADCASTING BOARD OF GOVERNORS

Government in the Sunshine Act Meeting Notice

DATE AND TIME: Thursday, June 23, 2016, 9:45 a.m.-12:00 p.m. EDT.

PLACE: Cohen Building, Room 3321, 330 Independence Ave. SW., Washington, DC 20237.

SUBJECT: Notice of Meeting of the Broadcasting Board of Governors.

SUMMARY: The Broadcasting Board of Governors (Board) will be meeting at the time and location listed above. The Board will vote on a consent agenda consisting of the minutes of its April 20, 2016 meeting, a resolution honoring the 65th anniversary of Voice of America's (VOA) Armenian Service, a resolution honoring the 65th anniversary of VOA's Georgian Service, a resolution honoring the 20th anniversary of VOA's Bosnian Service, and a resolution honoring the 15th anniversary of Radio the Radio Free Europe/Radio Liberty Balkan Service's Macedonian Unit. The Board will receive a report from the Chief Executive Officer and Director of BBG. The Board will also hear from representatives of the BBG's networks regarding the BBG's impact model, including examples or areas where BBG has had impact through its journalism as well as impact as a driving ethos for BBG's journalism.

This meeting will be available for public observation via streamed webcast, both live and on-demand, on the agency's public Web site at www.bbg.gov. Information regarding this meeting, including any updates or adjustments to its starting time, can also be found on the agency's public Web site.

The public may also attend this meeting in person at the address listed above as seating capacity permits. Members of the public seeking to attend the meeting in person must register at http://bbgboardmeetingjune2016.eventbrite.com by 12:00 p.m. (EDT) on June 22. For more information, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2016-14652 Filed 6-16-16; 4:15 pm]

BILLING CODE 8610-01-P